SOCIAL SECURITY ADMINISTRATION

Agency Information Collection Activities: Emergency Consideration Request

In compliance with Public Law 104-13, the Paperwork Reduction Act of 1995, the Social Security Administration (SSA) is providing notice of its information collections that require submission to the Office of Management and Budget (OMB). SSA is requesting emergency consideration from OMB by 06/02/2000 of the information collection listed below.

1. Annual Earning Test-Direct Mail Follow-up Program Notices-0960-0369. In 1997, as part of the initiative to reinvent government, SSA began to use the information reported on W-2's and self-employment tax returns to adjust benefits under the earnings test rather than have beneficiaries make a separate report, which often showed the same information. As a result, beneficiaries under full retirement age (FRA) complete forms SSA-L9778-SM-SUP, SSA-L9779-SM-SUP and SSA-L9781-SM (the “Midyear Mailer” forms) under this information collection.

With the passage of the Senior Citizen Freedom to Work Act of 2000, the annual earnings test (AET) at FRA was eliminated. As a result, SSA designed 2 new Midyear Mailer forms, the SSA-L9784-SM and the SSA-L9785-SM, to request an earnings estimate in the year of FRA for the period prior to the month of FRA. Social Security benefits may be adjusted based on the information provided and this information is needed to comply with the recent change to the law. Consequently, the Midyear Mailer program has become an even more important tool in helping SSA to ensure that Social Security payments are correct. Respondents are beneficiaries who must update their current year estimate of earnings, give SSA an estimate of earnings for the following year and an earnings estimate (in the year of FRA) for the period prior to the month of FRA.

Number of Respondents: 315,000.

Frequency of Response: 1.

Average Burden Per Response: 10 minutes.

Estimated Annual Burden: 52,500 hours.

You can obtain a copy of the collection instruments and/or OMB clearance package by calling the SSA Reports Clearance Officer on (410) 965-4145, or by writing to him. Written comments and recommendations regarding the information collection should be submitted to the SSA Reports Clearance Officer and to the OMB Desk Officer at the addresses at the end of this document. Comments and recommendations should be received before June 2, 2000.

(OMB Address)

Desk Officer for SSA, New Executive Office Building, Room 10230, 725 17th St., NW, Washington, DC 20503.

(SSA Address)

Social Security Administration, DCFAM, Attn: Frederick W. Brickenkamp, 1-A-21 Operations Bldg., 6401 Security Blvd., Baltimore, MD 21235.

Dated: May 9, 2000.
Frederick W. Brickenkamp,
Reports Clearance Officer.

[FR Doc. 00-12323 Filed 5-15-00; 8:45 am]

BILLING CODE 4190-29-U